DEPARTMENT OF COMMERCE

National Oceanic and Atmospheric Administration

50 CFR Part 648

[Docket No. 051128313-6029-02; I.D. 050906C]

Fisheries of the Northeastern United States; Atlantic Bluefish Fishery; Commercial Quota Adjustment for New York

AGENCY: National Marine Fisheries Service (NMFS), National Oceanic and Atmospheric Administration (NOAA), Commerce.

ACTION: Temporary rule; inseason adjustment.

SUMMARY: NMFS announces an adjustment in the Atlantic bluefish commercial quota available to New York. This action complies with regulations implementing the Atlantic Bluefish Fishery Management Plan (FMP), which require that landings in excess of a state's commercial quota be deducted from that state's quota the following year. The public is advised that a quota adjustment has been made and is informed of the revised quota for New York.

DATES: This rule is effective May 15, 2006 through December 31, 2006.

FOR FURTHER INFORMATION CONTACT: Bonnie Van Pelt, Fishery Policy Analyst, (978) 281-9244.

SUPPLEMENTARY INFORMATION: Regulations implementing Atlantic bluefish management measures are found at 50 CFR part 648, subpart J. An annual commercial quota is allocated to each of the Atlantic coastal states from Maine through Florida. The process to set the annual commercial quota and the percent allocated to each state is described in § 648.160(e).

Section 648.160(e)(2) provides that all landings in a state shall be applied against that state's annual commercial quota. Any landings in excess of the state's quota must be deducted from that state's annual quota for the following year. The final specifications for the 2005 Atlantic bluefish fishery set the total adjusted coastwide commercial quota equal to 10,398,671 lb (4,717 mt) (70 FR 13402; March 21, 2005). New York's adjusted quota share was calculated to be 1,079,912 lb (489,840 kg).

Based on dealer reports and other information available as of May 1, 2006, NMFS determined that the State of New York landed 1,131,309 lb (513,153 kg) of Atlantic bluefish in 2005, thus exceeding its 2005 adjusted commercial quota by 51,397 lb (23,313 kg). Landings for other states were below their respective quotas.

On March 17, 2006, final specifications for the 2006 Atlantic bluefish commercial fishery became effective (71 FR 13776). The total adjusted commercial harvest was specified at 7,962,586 lb (3,612 mt). New York's portion of the commercial quota for 2006 totaled 826,923 lb (375,086 kg). Consistent with the regulations regarding the disposition of overages, New York's 2006 Atlantic bluefish commercial quota is hereby reduced by 51,397 lb (23,313 kg), from 826,923 lb (375,086 kg) to 775,526 lb (351,773 kg).

Classification

This action is required by 50 CFR part 648 and is exempt from review under Executive Order 12866.

Authority: 16 U.S.C. 1801 et seq.

Dated: May 9, 2006.
Alan D. Risenhoover,
Acting Director, Office of Sustainable Fisheries, National Marine Fisheries Service.

[FR Doc. 06-4522 Filed 5-12-06; 8:45 am]

BILLING CODE 3510-22-S